DEPARTMENT OF COMMERCE

National Oceanic and Atmospheric Administration

RIN 0648-XE022

Marine Mammals; File No. 19590

AGENCY: National Marine Fisheries Service (NMFS), National Oceanic and Atmospheric Administration (NOAA), Commerce.

ACTION: Notice; receipt of application.

SUMMARY: Notice is hereby given that Terrie Williams, Ph.D., University of California at Santa Cruz, Long Marine Lab, Center for Ocean Health, 100 Shaffer Road, Santa Cruz, CA 95060, has applied in due form for a permit to conduct research on captive marine mammals.

DATES: Written, telefaxed, or email comments must be received on or before August 27, 2015.

ADDRESSES: The application and related documents are available for review by selecting “Records Open for Public Comment” from the “Features” box on the Applications and Permits for Protected Species (APPS) home page, https://apps.nmfs.noaa.gov, and then selecting File No. 19590 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 19590 in the subject line of the email comment.

Those individuals requesting a public hearing should submit a written request to the Chief, Permits and Conservation Division at the address listed above. The request should set forth the specific reasons why a hearing on this application would be appropriate.

FOR FURTHER INFORMATION CONTACT: Jennifer Skidmore or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant is requesting a permit to continue activities authorized under Permit No. 13602. This research compares the energetic and cardiovascular responses and diving physiology of odontocetes and pinnipeds to determine key physiological factors. Captive bottlenose dolphins (Tursiops truncatus) and temporarily held non-releasable Hawaiian monk seals (Neomonachus schauinslandi) at Long Marine Lab will be used as model species due to availability, trainability, and a foundation of data from previous studies by the applicant. Additional captive marine mammal species (up to 132 animals representing 8 species over 6 years, listed in the application) will be added through cooperative agreements with accredited zoological institutions in the U.S. Other species and subjects from rehabilitation and stranding programs in the U.S. may be added opportunistically. This research on captive animals will provide data for understanding the impact of changing environmental demands on wild marine mammals. Two approaches are used, (1) basic physiological evaluation (caloric intake, metabolism, heart rate, stroke rate, aerobic dive capacity, thermal capacity) measured seasonally on mature and immature dolphins, and (2) comparative evaluation of identical parameters for other species representing different marine mammal evolutionary lineages. Research methods include training marine mammals for voluntary participation to the maximum extent feasible to (1) assess body condition and morphometrics, (2) measure metabolic rate (stationing under a metabolic hood), (3) sample blood (for blood gases and lactate concentration) and administer Evan's blue dye and deuterium oxide (determination of oxygen stores, (4) attach instruments (e.g., ECG monitors to measure heart rate), (5) monitor heat flow and skin temperature with a handheld surface probe, and (6) measure body temperature via a flexible rectal probe or an ingested stomach temperature pill. The permit is requested for the maximum duration of five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 23, 2015.
Julia Harrison,
Chief, Permits and Conservation Division, Office of Protected Resources, National Marine Fisheries Service.

[FR Doc. 2015-18453 Filed 7-27-15; 8:45 am]

BILLING CODE 3510-22-P